DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 1, 2004.

Interested persons are invited to submit written comments regarding the subject matter of the investigations to the Director, Division of Trade Adjustment Assistance, at the address shown below, not later than June 1, 2004.

The petitions filed in this case are available for inspection at the Office of the Director, Division of Trade Adjustment Assistance, Employment and Training Administration, U.S. Department of Labor, Room C-5311, 200 Constitution Avenue, NW., Washington, DC 20210.

Signed in Washington, DC this 4th day of May, 2004.
Timothy Sullivan,
Director, Division of Trade Adjustment Assistance.

Appendix
[Petitions instituted between 04/26/2004 and 04/30/2004]
TA-W | Subject firm (petitioners) | Location | Date of institution | Date of petition
54,777 | Crown Risdon USA, Inc. (Comp) | Danbury, CT | 04/26/2004 | 04/26/2004
54,778 | Inflex, Inc. (MN) | Minnetonka, MN | 04/26/2004 | 04/23/2004
54,779 | Morgan Adhesives Co. (Wkrs) | N. Las Vegas, NV | 04/26/2004 | 03/24/2004
54,780 | Pottstown Metal Welding Company (Comp) | Pottstown, PA | 04/26/2004 | 04/23/2004
54,781 | Delta Mills, Inc. (Comp) | Piedmont, SC | 04/26/2004 | 04/15/2004
54,782 | B.J. Cutting (PA) | Hazleton, PA | 04/27/2004 | 04/22/2004
54,783 | Eighth Floor Promotions (Wkrs) | Bloomington, MN | 04/27/2004 | 04/26/2004
54,784 | Security Force (Wkrs) | Georgetown, SC | 04/27/2004 | 04/26/2004
54,785 | AVX Corp. (Wkrs) | Myrtle Beach, SC | 04/27/2004 | 04/26/2004
54,786 | Royce Hosiery, LLC (Wkrs) | Martinsburg, WV | 04/27/2004 | 04/22/2004
54,787 | Light Artistry, Inc. (Comp) | Pottsville, PA | 04/27/2004 | 04/16/2004
54,788 | Quadco, Inc (Comp) | Anchorage, AK | 04/27/2004 | 04/26/2004
54,789 | Edenton Dyeing and Finishing, LLC (Comp) | Edenton, NC | 04/27/2004 | 04/22/2004
54,790 | Bourns MMC, Inc. (Wkrs) | New Berlin, WI | 04/27/2004 | 04/26/2004
54,791 | Meridian Automotive Systems, Inc. (Comp) | Lenoir, NC | 04/27/2004 | 04/19/2004
54,792 | M and G Polymers USA, LLC (Wkrs) | Apple Grove, WV | 04/27/2004 | 04/26/2004
54,793 | Pyrotek (Wkrs) | Trenton, TN | 04/27/2004 | 04/22/2004
54,794 | Imperial Home Decor Group (WKRS) | Beachwood, OH | 04/28/2004 | 04/21/2004
54,795 | Kawai America Manufacturing, Inc. (Comp.) | Lincolnton, NC | 04/28/2004 | 04/22/2004
54,796 | Venture Industries (WKRS.) | Lancaster, OH | 04/28/2004 | 04/23/2004
54,797 | American Firelog Corp. of Ohio (Wkrs.) | Akron, OH | 04/28/2004 | 04/21/2004
54,798 | Band B Pacing Workshop (Comp.) | Strong, ME | 04/28/2004 | 04/20/2004
54,799 | Northland Extension Drills Inc. (State) | Grove City, MN | 04/28/2004 | 04/27/2004
54,800 | Johnson Controls Inc. (Comp.) | Holland, MI | 04/28/2004 | 04/08/2004
54,801 | Three Rivers Warehouse (Comp.) | Muskogee, OK | 04/28/2004 | 04/21/2004
54,802 | New Roads, Inc. (Wkrs.) | Martinsville, VA | 04/28/2004 | 04/22/2004
54,803 | Saint Gobain Performance Plastics (State) | Garden Grove, CA | 04/28/2004 | 04/19/2004
54,804 | Southern Glove Manufacture Co., Inc. (Comp.) | Duffield, VA | 04/28/2004 | 04/19/2004
54,805 | Plastek Industries (Wkrs.) | Erie, PA | 04/28/2004 | 04/10/2004
54,806 | Endwave (State) | Diamond Spring, CA | 04/28/2004 | 04/19/2004
54,807 | Robert Bosch Corporation (Wkrs.) | Gallatin, TN | 04/29/2004 | 04/19/2004
54,808 | Gateway Country Store (Wkrs.) | Indianapolis, IN | 04/29/2004 | 04/26/2004
54,809 | Hot Wax Candle Co. (Comp.) | Greensboro, NC | 04/29/2004 | 04/08/2004
54,810 | Webb Furniture Ent. Inc. (Comp.) | Galax, VA | 04/29/2004 | 04/28/2004
54,811 | Rock-Tenn Comp. (Comp.) | Wright City, MO | 04/29/2004 | 04/26/2004
54,812 | Vesuvius USA (Wkrs.) | Altoona, PA | 04/29/2004 | 04/28/2004
54,813 | W L Jacquard LLC (Comp) | Cliffside, NC | 04/30/2004 | 04/29/2004
54,814 | Alyeska Pipeline Service Co. (Comp) | Anchorage, AK | 04/30/2004 | 04/28/2004
54,815 | JamiServices, Corp. (Wkrs) | Bishopville, SC | 04/30/2004 | 04/28/2004
54,816 | Phipps Patterns, Inc. (Wkrs) | Decatur, IL | 04/30/2004 | 04/16/2004
54,817 | RHC/Spacemaster Corp. (Wkrs) | Melrose Park, IL | 04/30/2004 | 04/27/2007
54,818 | Franklin Electri (IAM) | Muskegon, MI | 04/30/2004 | 04/28/2004
54,819 | Stetson Hat (Hatco) (UNITE) | St. Joseph, MO | 04/30/2004 | 04/26/2004
54,820 | Moosehead Manufacturing (ME) | Monson, ME | 04/30/2004 | 04/07/2004
54,821 | Burlington Industries (Comp) | Greensboro, NC | 04/30/2004 | 04/15/2004
54,822 | Honeywell (Wkrs) | Clearfield, UT | 04/30/2004 | 04/09/2004
54,823 | Ehlert Tool (WI) | New Berlin, WI | 04/30/2004 | 04/30/2004
54,824 | Saftronics (Wkrs) | York, PA | 04/30/2004 | 04/29/2004
54,825 | Utica Enterprises, Inc. (MI) | Shelby Twp., MI | 04/30/2004 | 04/20/2004
54,826 | First Technology, Inc. (Comp) | Caribou, ME | 04/30/2004 | 04/07/2004
54,827 | Harris Fresh, LLC (Comp) | Coalinga, CA | 04/30/2004 | 04/16/2004
54,828 | Caraustar (UNITE) | Cedartown, GA | 04/30/2004 | 04/02/2004
54,829 | Manpower (Comp) | Poughkeepsie, NY | 04/30/2004 | 04/23/2004
54,830 | ITT Industries (Comp) | New Lexington, OH | 04/30/2004 | 04/13/2004

[FR Doc. 04-11496 Filed 5-20-04; 8:45 am]

BILLING CODE 4510-30-M